DEPARTMENT OF DEFENSE

Department of the Air Force

[Docket ID: USAF-2022-HQ-0003]

Submission for OMB Review; Comment Request

AGENCY: Department of the Air Force, Department of Defense (DoD).

ACTION: Emergency 15-day information collection notice.

SUMMARY: Consistent with the Paperwork Reduction Act of 1995 and its implementing regulations, this document provides notice that DoD is submitting an Information Collection Request to the Office of Management and Budget (OMB) to develop a leadership curriculum that will help the U.S. Air Force (USAF) Academy produce leaders of character who will contribute to a culture of civility as they become officers in the USAF. DoD requests emergency processing and OMB authorization to collect the information after publication of this notice for a period of six months.

DATES: Comments must be received by April 4, 2022.

ADDRESSES: The Department has requested emergency processing from OMB for this information collection request by 15 days after publication of this notice. Interested parties can access the supporting materials and collection instrument as well as submit comments and recommendations to OMB at www.reginfo.gov/public/do/PRAMain. Find this particular information collection by selecting “Currently under 15-day Review—Open for Public Comments” or by using the search function. Comments submitted in response to this notice will be summarized and included in the request for OMB approval of this information collection. They will also become a matter of public record.

FOR FURTHER INFORMATION CONTACT: Angela Duncan, 571-372-7574, or whs.mc-alex.esd.mbx.dd-dod-information-collections@mail.mil.

SUPPLEMENTARY INFORMATION: This study supports the Sexual Assault Prevention and Response Office's (SAPRO) mission (and that of the larger USAF) to work toward an Air Force culture that is free of sexual violence. This effort will also support completion of USAF Academy SAPRO's DoD Junior Leader Working Group's plan of action and milestones. Ultimately, the implementation of the adapted curriculum may result in a reduced number of sexual assaults and enhanced psychological health and well-being among Airmen, enabling them to remain fit for duty.

This study will collect formative research data through focus groups and interviews to inform recommendations to enhance the current USAF Academy sexual assault leadership training curriculum. Research partners at the University of Florida and RTI International will collect feedback from trainees in Squadron Officer School at Maxwell Air Force Base concerning perceived readiness for duty, perceptions of the leadership training received at USAF Academy, and opportunities for enhancement across the four-year USAF Academy curriculum.

Title; Associated Form; and OMB Number: Formative Research for Sexual Assault Leadership Training at the U.S. Air Force Academy; OMB Control Number 0701-FRSA.

Type of Request: Emergency.

Number of Respondents: 20.

Responses per Respondent: 1.

Annual Responses: 20.

Average Burden per Response: 1 hour.

Annual Burden Hours: 20 hours.

Affected Public: Individuals or households.

Frequency: Once.

Respondent's Obligation: Voluntary.

Request for Comments

Comments are invited on: (1) Whether the proposed collection of information is necessary for the proper performance of the functions of DoD, including whether the information collected has practical utility; (2) the accuracy of DoD's estimate of the burden (including hours and cost) of the proposed collection of information; (3) ways to enhance the quality, utility, and clarity of the information to be collected; and (4) ways to minimize the burden of the collection of information on respondents, including automated collection techniques or the use of other forms of information technology.

Dated: March 15, 2022.
Aaron T. Siegel,
Alternate OSD Federal Register Liaison Officer, Department of Defense.

[FR Doc. 2022-05796 Filed 3-17-22; 8:45 am]

BILLING CODE 5001-05-P